OFFICE OF SPECIAL COUNSEL

5 CFR Part 1800

[OMB Control No. 3255-0005]

Filing of Complaints of Prohibited Personnel Practices or Other Prohibited Activities and Filing Disclosures of Information

AGENCY: U.S. Office of Special Counsel.

ACTION: Final rule; confirmation of effective date.

SUMMARY: On June 9, 2017, the U.S. Office of Special Counsel (OSC) published a final rule revising its regulations regarding the filing of complaints and disclosures with OSC, and updated OSC's prohibited personnel practice provisions. The rule's effective date was delayed indefinitely on July 14, 2017. This document establishes the effective date for the rule.

DATES: The effective date of the final rule published at 82 FR 26739 on June 9, 2017, delayed at 82 FR 32447, July 14, 2017, is August 26, 2019.

FOR FURTHER INFORMATION CONTACT: Susan K. Ullman, General Counsel, U.S. Office of Special Counsel, by telephone at 202-804-7000, or by email at sullman@osc.gov.

SUPPLEMENTARY INFORMATION: On July 14, 2017 (82 FR 32447), OSC published an indefinite delay of its June 9, 2017, final rule revising its regulations regarding the filing of complaints and disclosures with OSC and updating OSC's prohibited personnel practice provisions. This document confirms the effective date of August 26, 2019, for that final rule.

Dated: July 18, 2019.
Bruce Gipe,
Chief Operating Officer.

[FR Doc. 2019-15656 Filed 7-23-19; 8:45 am]

BILLING CODE P